DEPARTMENT OF COMMERCE

International Trade Administration

[A-533-838]

Notice of Final Determination of Sales at Less Than Fair Value: Carbazole Violet Pigment 23 From India

AGENCY: Import Administration, International Trade Administration, U.S. Department of Commerce.

DATES: Effective November 17, 2004.

FOR FURTHER INFORMATION CONTACT: Lyn Johnson or Richard Rimlinger, Import Administration, International Trade Administration, U.S. Department of Commerce, 14th Street and Constitution Avenue, NW., Washington, DC 20230; telephone: (202) 482-5287 or (202) 482-4477, respectively.

SUPPLEMENTARY INFORMATION:

Final Determination

The Department of Commerce (the Department) has conducted this antidumping investigation in accordance with section 735 of the Tariff Act of 1930, as amended (the Act). We have determined that carbazole violet pigment 23 (CVP-23) from India is being sold, or is likely to be sold, in the United States at less than fair value (LTFV), as provided in section 735 of the Act. The estimated margins for sales at LTFV are shown in the “Final Determination Margins” section of this notice.

Background

The preliminary determination of sales at LTFV in this investigation was issued on June 24, 2004. See Notice of Preliminary Determination of Sales at Less Than Fair Value and Postponement of Final Determination: Carbazole Violet Pigment 23 From India, 69 FR 35293 (June 24, 2004) (Preliminary Determination).

Since the Preliminary Determination the following events have occurred. From August 23 through August 27, 2004, we conducted verification of Pidilite Industries Ltd. (Pidilite), and from August 30 through September 2, 2004, we conducted verification of Alpanil Industries (Alpanil). On October 1, 2004, we received a joint case brief from Alpanil and Pidilite and a case brief from the Clariant Corporation (Clariant), a domestic interested party. On October 6, 2004, we received a joint rebuttal brief from Alpanil and Pidilite, a rebuttal brief from Clariant, and a rebuttal brief from the petitioners (Sun Chemical Corporation and Nation Ford Chemical Company).

Period of Investigation

The period of investigation (POI) is October 1, 2002, through September 30, 2003, which corresponds to the four most recent fiscal quarters prior to the month of filing of the petition.

Scope of Investigation

The merchandise covered by this investigation is CVP-23 identified as Color Index No. 51319 and Chemical Abstract No. 6358-30-1, with the chemical name of diindolo [3,2-b:3′,2′-m]triphenodioxazine, 8,18-dichloro-5, 15-diethy-5, 15-dihydro-, and molecular formula of C34H22Cl2N4O2.¹ The subject merchandise includes the crude pigment in any form (e.g., dry powder, paste, wet cake) and finished pigment in the form of presscake and dry color. Pigment dispersions in any form (e.g. pigments dispersed in oleoresins, flammable solvents, water) are not included within the scope of the investigation.

¹ The bracketed section of the product description, [3,2-b:3′,2′-m], is not business proprietary information. In this case, the brackets are simply part of the chemical nomenclature. See December 4, 2003, amendment to petition at 8.

The merchandise subject to this investigation is classifiable under subheading 3204.17.9040 of the Harmonized Tariff Schedule of the United States (HTSUS). Although the HTSUS subheadings are provided for convenience and customs purposes, the written description of the merchandise under investigation is dispositive.

Analysis of Comments Received

All issues raised in the case and rebuttal briefs by parties to this antidumping investigation are addressed in the November 8, 2004, “Issues and Decision Memorandum” from Jeffrey May, Deputy Assistant Secretary, Import Administration, to James J. Jochum, Assistant Secretary for Import Administration (Decision Memorandum). Parties can find a complete discussion of all issues raised in this investigation and the corresponding recommendations in this public memorandum which is on file in Import Administration's Central Records Unit at Room B099, U.S. Department of Commerce, 14th Street and Constitution Avenue, NW., Washington, DC 20230. In addition, a complete version of the Decision Memorandum can be accessed directly on the Web at http://ia.ita.doc.gov/frn/index.html. The paper copy and electronic version of the Decision Memorandum are identical in content.

Verification

In accordance with section 782(i) of the Act, we verified the information submitted by the respondents for use in our final determination. We used standard verification procedures which included the examination of original source documents provided by respondents. See the September 20, 2004, memorandum from Susan Lehman entitled “Sales Verification Report: Antidumping Duty Investigation of Carbazole Violet Pigment 23 From India, Pidilite Industries Ltd.” (Pidilite Verification Report) and the September 23, 2004, memorandum from Yang Jin Chun entitled “Antidumping Duty Investigation of Carbazole Violet Pigment 23 From India: Sales Verification Report for Alpanil Industries.” (Alpanil Verification Report).

Changes Since the Preliminary Determination

We have made the following changes to our margin calculations since the preliminary determination:

Alpanil

(1) Based on findings during verification, the Department requested that Alpanil submit updated home-market and U.S. sales listings. See the September 10, 2004, memorandum from Yang Jin Chun to the File. It did so on September 21, 2004. Except for the requested changes involving level of trade, we implemented all other corrections and findings which resulted from verification by using Alpanil's updated home-market and U.S. sales listings. See the Alpanil Verification Report for a list and description of these changes. See also the November 8, 2004, memorandum from Yang Jin Chun entitled “Antidumping Duty Investigation of Carbazole Violet Pigment 23 From India: Final Determination Analysis Memorandum for Alpanil Industries.”

(2) Regarding levels of trade, we no longer find that there are two levels of trade in the home-market. Instead we determine that all home-market sales were made at a single level of trade which is equivalent to the U.S. level of trade. See Comment 2 of the Decision Memorandum for a discussion of this issue.

Pidilite

Based on findings during verification, the Department requested that Pidilite submit updated home-market and U.S. sales listings. See the September 10, 2004, memorandum from Susan Lehman to the File. It did so on September 29, 2004. We incorporated all of the corrections and findings which resulted from verification by using Pidilite's updated home-market and U.S. sales listings. See the Pidilite Verification Report for a list and description of these changes. See also the November 8, 2004, memorandum from Susan Lehman entitled “Antidumping Duty Investigation of Carbazole Violet Pigment 23 From India: Final Determination Analysis Memorandum for Pidilite Industries Ltd.”

Continuation of Suspension of Liquidation

Pursuant to 735(c)(1)(B) of the Act, we will instruct U.S. Customs and Border Protection (CBP) to continue to suspend liquidation of all entries of subject merchandise from India, entered, or withdrawn from warehouse, for consumption on or after June 24, 2004, the date of publication of our preliminary determination. CBP shall require a cash deposit or the posting of a bond equal to the estimated amount by which the normal value exceeds the U.S. price as shown below, adjusted for export subsidies found in the final determination of the companion countervailing duty investigation of this merchandise. Specifically, consistent with our practice, where the product under investigation is also subject to a concurrent countervailing duty investigation, we instruct CBP to require a cash deposit or posting of a bond equal to the amount by which the normal value exceeds the EP, as indicated below, less the amount of the countervailing duty determined to constitute an export subsidy. Accordingly, for cash deposit purposes, we are subtracting from the applicable cash deposit rate that portion of the rate attributable to the export subsidies found in the affirmative countervailing duty determination for each respondent (i.e., 17.57 percent for Alpanil, 17.02 percent for Pidilite). After the adjustment for the cash deposit rates attributed to export subsidies, the resulting cash deposit rates will be 9.66 percent for Alpanil, 52.21 percent for Pidilite. We also calculated a weighted-average all-others cash deposit rate of 28.66 percent after adjusting Alpanil's and Pidilite's cash deposit rates for export subsidies. See the All-Others Rate memorandum to the file from Lyn Johnson dated November 8, 2004. These instructions suspending liquidation will remain in effect until further notice.

Final Determination Margins

The weighted-average margins are as follows:

Producer/exporter | Weighted-average margin percentage
Alpanil Industries | 27.23
Pidilite Industries Ltd | 69.23
All Others | 45.98

Disclosure

In accordance with 19 CFR 351.224(b), the Department will disclose to interested parties within five days of the date of publication of this notice the calculations performed in the final determination.

International Trade Commission Notification

In accordance with section 735(d) of the Act, we have notified the International Trade Commission (ITC) of our determination of sales at LTFV. As our final determination is affirmative, and in accordance with section 735(b) of the Act, the ITC will determine within 45 days whether the domestic industry in the United States is materially injured, or threatened with material injury, by reason of imports, or sales (or the likelihood of sales) for importation, of the subject merchandise. If the ITC determines that material injury or threat of material injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Notification Regarding APO

This notice serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

November 8, 2004.
James J. Jochum,
Assistant Secretary for Import Administration.

Issues Appendix

Comment 1—Duty Revenue

Comment 2—Level of Trade

Comment 3—Reporting Errors

[FR Doc. E4-3198 Filed 11-16-04; 8:45 am]

BILLING CODE 3510-DS-P